DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Public Law 104-13), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer at (301) 443-1129.

Comments are invited on: (a) The proposed collection of information for the proper performance of the functions of the Agency; (b) the accuracy of the Agency's estimate of the burden of the proposed collection of information; (c) ways to enhance the quality, utility, and clarity of the information to be collected; and (d) ways to minimize the burden of the collection of information on respondents, including through the use of automated collection techniques or other forms of information technology.

Proposed Project: Cultural and Linguistic Competency and Health Literacy Data Collection Checklist (OMB No. 0915-xxxx)—[New]

The vision of the Health Resources and Services Administration (HRSA) is “Healthy Communities, Healthy People.” In addition, the HRSA mission statement is “To improve health and achieve health equity through access to quality services, a skilled health workforce and innovative programs.” This is the framework that supports a health care system that assures access to comprehensive, culturally competent, quality care.

Performance measures have been helpful for HRSA to assess the progress of each grantee. The measure used will be the degree to which HRSA-funded programs have incorporated cultural and linguistic competence and health literacy elements into their policies, guidelines, contracts and training. HRSA Bureaus/Offices shall be encouraged to incorporate this performance measure or a modified version of this measure into their funding opportunity announcements either as a stand-alone or integrated measure.

Using a scale of 0-3, the grantee may use the Cultural and Linguistic Competency and Health Literacy Data Collection Checklist to assess if specified cultural/linguistic competence and health literacy elements have been incorporated into their policies, guidelines, contracts and training. Each HRSA program may add data sources and year of data used for scoring to provide a rationale for determining a score, and/or applicability of elements to a specific program.

The goal of this checklist is to increase the number of HRSA-funded programs that have integrated both cultural and linguistic competence, as well as health literacy, into their policies, guidelines, contracts and training. In addition, variations of the proposed tool have proven useful for grantees' self-assessment. This proposed tool can also offer insights into technical assistance challenges and opportunities.

The annual estimate of burden is as follows:

Instrument | Number of respondents | Responses per respondent | Total responses | Hours per response | Total burden hours
Data Collection Checklist | 900 | 1 | 900 | 1 | 900
Total | 900 | 1 | 900 | 1 | 900

E-mail comments to paperwork@hrsa.gov or mail the HRSA Reports Clearance Officer, Room 10-33, Parklawn Building, 5600 Fishers Lane, Rockville, MD 20857. Written comments should be received within 60 days of this notice.

Dated: September 20, 2011.
Reva Harris,
Acting Director, Division of Policy Information and Coordination.

[FR Doc. 2011-24561 Filed 9-23-11; 8:45 am]

BILLING CODE 4165-15-P